DEPARTMENT OF COMMERCE

Census Bureau

Proposed Information Collection; Comment Request; American Community Survey Methods Panel Tests

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before January 16, 2018.

ADDRESSES: Please direct all written comments to Jennifer Jessup, Departmental Paperwork Clearance Officer, Department of Commerce, Room 6616, 14th and Constitution Avenue NW., Washington, DC 20230 (or via the Internet at PRAcomments@doc.gov). You may also submit comments, identified by Docket number USBC-2017-0006, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, U.S. Census Bureau, Decennial Census Management Division, 4600 Silver Hill Rd., Washington, DC 20233, or email at Robin.A.Pennington@census.gov.

SUPPLEMENTARY INFORMATION:

I. Abstract

The American Community Survey (ACS) collects detailed socioeconomic data from about 3.5 million addresses in the United States and 36,000 in Puerto Rico each year. The ACS also collects detailed socioeconomic data from about 195,000 residents living in Group Quarters (GQ) facilities. Resulting tabulations from this data collection are provided on a yearly basis. The ACS allows the Census Bureau to provide timely and relevant housing and socioeconomic statistics, even for small geographies.

An ongoing data collection effort with an annual sample of this magnitude requires that the ACS continue research, testing, and evaluations aimed at improving data quality, achieving survey cost efficiencies, and improving ACS questionnaire content and related data collection materials. The ACS Methods Panel is a research program designed to address and respond to survey issues and needs. From 2018 to 2021, the ACS Methods Panel may include testing methods for increasing survey efficiencies, reducing survey cost, lessening respondent burden, improving response rates, and improving data quality.

At this time, plans are in place to propose several tests: Self-response mail messaging tests, a respondent burden field test, testing the use of administrative data, GQ testing, and two content tests. Since the ACS Methods Panel is designed to address emerging issues, we may conduct additional testing as needed. Any additional testing would focus on methods for reducing data collection costs, improving data quality, improving the respondent experience, revising content, or testing new questions that have an urgent need to be included on the ACS.

In response to declining response rates and increasing costs, the Census Bureau plans to study methods to increase self-response, the least expensive mode of data collection. The Census Bureau currently sends up to five mailings to a sampled address to inform the occupants that their address has been selected and to encourage them to respond to the ACS. The proposed tests would include changes to messages included in the mailings to motivate the public to respond to the ACS. The proposed tests would also include modifications to the materials, including the mailing type (for example, sending letters versus postcards). Changes to the number of mailings or the timing of the mailings may be explored. The Census Bureau is also considering testing automated phone reminders.

In 2014, the ACS conducted a comprehensive content review to ensure that only the information needed is requested and that the justifications provided by federal agencies for the ACS questions are current and valid (Chappell and Obenski, 2014). The Census Bureau takes very seriously respondent burden and concerns and recognizes that the content review process was only an initial step to addressing them. The Census Bureau has worked hard to identify a range of possibilities for reducing perceived respondent burden while still maintaining the irreplaceable quality and richness of ACS data (Hughes et al., 2015, Griffin and Hughes, 2013, Hughes et al., 2016, Heimel et al., 2016, Oliver et al., 2016). In a workshop held in 2016, the National Academies of Science Committee on National Statistics recommended identifying a way to quantify or measure respondent burden (National Academies of Sciences, Engineering, and Medicine, 2016). The Census Bureau has begun work to understand respondents' experience responding to the ACS through focus groups and cognitive testing. The next step for this work is to conduct a field test, implementing questions to measure respondent burden.

The Census Bureau has made significant progress exploring the use of administrative data in surveys and censuses, potentially as a substitute for questions asked of respondents. Administrative data refer to data collected by government agencies for the purposes of administering programs or providing services. The Census Bureau has evaluated the availability and suitability of several different data sources for use in the ACS on telephone service, the year a residence was built, condominium status, income, residence one year ago, and self-employment income. We are currently exploring administrative data use for property values, property taxes, and acreage. Additionally, we plan to evaluate the quality, coverage, and feasibility of using administrative records in lieu of enumeration for institutional GQs (U.S. Census Bureau, 2017). In addition to replacing questions on the survey, administrative data may be used to reduce burden of existing questions by allowing for modification of the questions. For example, the ACS currently asks respondents to provide their total income for the past 12 months as well as income received from various sources (for example, wages, interest, retirement income). We are currently cognitively testing modifications to the income questions, including changing the reference year from the past 12 months to the previous calendar year, as well as only asking respondents if income was received from various sources rather than the amount. As a continuation of this research, the Census Bureau proposes a field test of revised content, for income as well as other topics both for the housing unit questionnaire as well as the GQ questionnaire. Some questions may be modified while others would be removed.

The ACS samples about 18,000 GQ facilities each year. A GQ is a place where people live or stay, in a group living arrangement, which is owned or managed by an entity or organization providing housing and/or services for the residents. There are two categories of GQs: Institutional and non-institutional. Institutional GQs include places such as correctional facilities and nursing homes. Non-institutional GQs include college housing, military barracks, and residential treatment centers. Most interviews conducted in GQs are interviewer-administered (over 90 percent of interviews in institutional GQs and just under 75 percent in non-institutional GQs), but some GQ respondents self-respond using a paper questionnaire. The Census Scientific Advisory Committee Working Group on Group Quarters in the ACS recommended that the Census Bureau consider making an “internet version of the ACS available to non-institutional GQ residents, especially in college dorms, military barracks, and group homes” (National Academies of Sciences, Engineering, and Medicine, 2016). Additional support was identified for this in a workshop held in 2016 with the National Academies of Science Committee on National Statistics. The Census Bureau proposes a field test of an internet self-response GQ form for residents in non-institutional GQs.

Working through the Office of Management and Budget (OMB) Interagency Committee for the ACS, the Census Bureau will solicit proposals from other Federal agencies to change existing questions or add new questions to the ACS. The Census Bureau proposes testing any new or revised questions in one of two content tests. A content test using all modes of data collection will be conducted in 2021. Conducting a self-response only content test prior to 2021 allows the Census Bureau to be more agile in reacting to changes in society and legislation. The objective of both content tests is to determine the impact of changing question wording and response categories, as well as redefining underlying constructs, on the quality of the data collected. The Census Bureau proposes to evaluate changes to current questions by comparing the revised questions to the current ACS questions. For new questions, the Census Bureau proposes to compare the performance of two versions of any new questions and benchmark results to other well-known sources of such information.

References

Chappell, Gary and Sally Obenski. 2014. American Community Survey Fiscal Year 2014 Content Review. U.S. Census Bureau. Accessed 8/1/2017 at, https://www.census.gov/programs-surveys/acs/operations-and-administration/2014-content-review.html.

Griffin, Deborah and Todd Hughes. 2013. Effect of Changing Call Parameters in the American Community Survey's Computer Assisted Telephone Interviewing Operation. ACS13-RER-17. U.S. Census Bureau. Accessed 8/1/2017 at, http://www.census.gov/library/working-papers/2013/acs/2013_Griffin_03.html.

Heimel, Sarah, Dorothy Barth, and Megan Rabe. 2016. “Why We Ask” Mail Package Insert Test. ACS16-MP-07. U.S. Census Bureau. Accessed 8/1/2017 at, https://www.census.gov/library/working-papers/2016/acs/2016_Heimel_01.html.

Hughes, Todd, Michael Beaghen, and Mark Asiala. 2015. Reducing Respondent Burden in the American Community Survey. Accessed 8/1/2017 at, https://www.census.gov/content/dam/Census/programs-surveys/acs/operations-and-administration/2015-16-survey-enhancements/Reducing_Burden_ACS_Feasibility_Assessment.pdf.

Hughes, Todd, Eric Slud, Robert Ashmead, and Rachael Walsh. 2016. Results of a Field Pilot to Reduce Respondent Contact Burden in the American Community Survey's Computer Assisted Personal Interviewing Operation. ACS16-RER-07. U.S. Census Bureau. Accessed 8/1/2017 at, https://www.census.gov/library/working-papers/2016/acs/2016_Hughes_01.html.

National Academies of Sciences, Engineering, and Medicine. (2016). Reducing Response Burden in the American Community Survey: Processing of a Workshop. Washington, DC: The National Academies Press. Accessed 8/1/2017 at, https://doi.org/10.17226/23639.

Oliver, Broderick, Michael Risley, and Andrew Roberts. 2016. 2015 Summer Mandatory Messaging Test. ACS16-RER-5-R1. U.S. Census Bureau. Accessed 8/1/2017 at, https://www.census.gov/library/working-papers/2016/acs/2016_Oliver_01.html.

U.S. Census Bureau. 2017. Agility in Action 2.0: A Snapshot of enhancements to the American Community Survey. Accessed 8/8/2017 at, https://www.census.gov/programs-surveys/acs/operations-and-administration/agility-in-action/agility-in-action-2.html.

II. Method of Collection

Self-Response Mail Messaging Tests—We will use the same self-response modes we offer in ACS production data collection, that is, internet and a mail-back paper questionnaire. No interviewer-administered interviews are necessary for these tests. Different strategies to encourage self-response may be used, including changes to the number and timing of the mailings, the messages and materials included in each mailing, as well as automated telephone reminders. Testing is usually conducted with split-sample experiments, using current ACS production materials as the control. The Census Bureau expects to conduct up to four self-response mail messaging tests each year.

Respondent Burden Field Test—The Census Bureau proposes adding several optional questions about the respondent's perception of burden at the end of the ACS interview. The questions would allow respondents the opportunity to give feedback after completing the ACS and are intended to measure the burden of the survey, including the contacts we made to reach the respondent, the time it took to complete the survey, and how difficult and sensitive it was for the respondent to answer the questions. The questions would be asked of respondents across all modes of data collection: Internet, paper questionnaires, and interviewer-administered.

Testing the Use of Administrative Data in Housing Units (HUs) and GQs—We will test replacing or substituting all or parts of the ACS with administrative data, which could make it possible to remove or modify the existing questions on the questionnaire. Respondents could be presented with a new version of the questionnaire with some questions not asked and others modified, as compared to production ACS. Evidence suggests that respondents who respond to the ACS using different modes of data collection (internet, paper questionnaire, and interviewer-administered) have different socioeconomic characteristics. Therefore, this test will include all modes of data collection. This test would include respondents in both HUs and GQs.

Group Quarters Test—A sample of GQ respondents will be given the option of completing the survey via self-response using an internet instrument. We would evaluate the quality of the data received from the internet compared to traditional data collection methods for GQs (paper questionnaires and interviewer-administered) as well as assess operational issues with offering the internet option, including feedback from interviewers.

Content Tests—The self-response content test will include internet and paper-questionnaires for data collection. Additionally, assistance over the phone will be offered to respondents, which can result in an interview being conducted. These interviews are considered self-response in the ACS. The test will be a split-sample experiment with some respondents assigned to receive current production ACS content and some respondents assigned to receive new and revised content. Additionally, a follow-up reinterview may be conducted with all households who responded to measure response burden as well as response bias or response variance. Comparisons will be made between the experimental treatments to determine whether the new or revised content produces better data quality and/or reduces respondent burden. The 2021 ACS Content Test will be similar to the self-response content test in that it will be a split-sample experiment with a follow-up reinterview. However, this test will include all modes of data collection (internet, mail, and interviewer-administered).

III. Data

OMB Control Number: 0607-0936.

Form Number(s): ACS-1, ACS-1(GQ), ACS-1(PR)SP, ACS CAPI(HU) and ACS RI(HU).

Type of Review: Regular submission.

Affected Public: Individuals and households.

Estimated Number of Respondents:

Self-Response Mail Messaging Tests—We estimate that each of the self-response mail messaging tests will include 60,000 respondents. We anticipate there will be up to 14 tests across the 3-year period.

Respondent Burden Field Test—100,000.

Testing the Use of Administrative Data—100,000.

Self-Response Content Test—100,000 respondents plus 63,000 respondents in the follow-up reinterview.

2021 ACS Content Test—100,000 respondents plus 83,000 respondents in the follow-up reinterview.

Estimated Time per Response:

Self-Response Mail Messaging Tests—40 minutes.

Respondent Burden Field Test—50 minutes (10 minutes for the optional follow-up questions).

Testing the Use of Administrative Data in HUs and GQs—40 minutes.

Group Quarters Test—40 minutes (includes both the interview with the facility manager and the interview itself).

Self-Response Content Test—40 minutes for the initial interview plus 20 minutes for the follow-up reinterview.

2021 ACS Content Test—40 minutes for the initial interview plus 20 minutes for the follow-up reinterview.

Estimated Total Annual Burden Hours: 297,445.

Test | Estimated number of respondents | Estimated time per response (in minutes) | Total burden hours
2018 Self-Response Mail Messaging Tests | Test A—60,000 Test B—60,000 | Test A—40 Test B—40 | Test A—40,000. Test B—40,000.
2019 Self-Response Mail Messaging Tests | Test A—60,000 Test B—60,000 Test C—60,000 Test D—60,000 | Test A—40 Test B—40 Test C—40 Test D—40 | Test A—40,000. Test B—40,000. Test C—40,000. Test D—40,000.
2020 Self-Response Mail Messaging Tests | Test A—60,000 Test B—60,000 Test C—60,000 Test D—60,000 | Test A—40 Test B—40 Test C—40 Test D—40 | Test A—40,000. Test B—40,000. Test C—40,000. Test D—40,000.
2021 Self-Response Mail Messaging Tests | Test A—60,000 Test B—60,000 Test C—60,000 Test D—60,000 | Test A—40 Test B—40 Test C—40 Test D—40 | Test A—40,000. Test B—40,000. Test C—40,000. Test D—40,000.
Respondent Burden Field Test | 100,000 | 50 | 83,334.
Testing the Use of Administrative Data in HUs and GQs | 100,000 | 40 | 66,667.
Group Quarters Test | 500 | 40 | 334.
Self-Response Content Test | Initial Interview—100,000 | Initial Interview—40 | Initial Interview—66,667.
| Follow-up Reinterview—63,000 | Follow-up Reinterview—20 | Follow-up Reinterview—21,000.
2021 ACS Content Test | Initial Interview—100,000 | Initial Interview—40 | Initial Interview—66,667.
| Follow-up Reinterview—83,000 | Follow-up Reinterview—20 | Follow-up Reinterview—27,667.
Total | 1,386,500 |  | 892,336 (over 3 years).

Estimated Total Annual Cost to Public: Except for their time, there is no cost to respondents.

Respondent's Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-24943 Filed 11-16-17; 8:45 am]

BILLING CODE 3510-07-P